DEPARTMENT OF COMMERCE

National Oceanic and Atmospheric Administration

RIN 0648-XC788

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) on August 20-21, 2013 to consider actions affecting New England fisheries in the exclusive economic zone (EEZ). Recommendations from this group will be brought to the full Council for formal consideration and action, if appropriate.

DATES: This meeting will be held on Tuesday, August 20, 2013 at 8 a.m. and on Wednesday, August 21, 2013 at 8 a.m.

ADDRESSES: Meeting Address: The meeting will be held at the Westin Waterfront Hotel, 425 Summer Street, Boston, MA 02210; telephone: (617) 532-4600; fax: (617) 532-4650.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Tuesday, August 20, 2013—Wednesday, August 21, 2013

On Tuesday, the Scientific and Statistical Committee (SSC) will meet to consider information from the Council's Monkfish Plan Development Team (PDT) and develop acceptable biological catch (ABC) recommendations for monkfish (goosefish) for fishing years 2014-16; review stock assessment information, consider information provided by the Groundfish PDT and develop ABC recommendations for white hake for fishing years 2014-15; and review information provided by the Groundfish PDT and develop ABC recommendations for Gulf of Maine cod and American plaice for fishing years 2014-15, if needed, for rebuilding programs for these stocks. The committee may not develop all the ABC recommendations for these stocks at this meeting.

On Wednesday, the SSC will review stock assessment information and develop ABC recommendations for Georges Bank yellowtail flounder for fishing year 2014; review information from the Red Crab PDT and develop ABC recommendations for red crab for fishing years 2014-16; review information provided by the Groundfish PDT and provide guidance to the Council on whether the Gulf of Maine haddock ABC may be adjusted in response to possible movement of Georges Bank haddock into the Gulf of Maine. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 5, 2013.
Tracey L. Thompson,
Acting Deputy Director, Office of Sustainable Fisheries, National Marine Fisheries Service.

[FR Doc. 2013-19170 Filed 8-7-13; 8:45 am]

BILLING CODE 3510-22-P